DEPARTMENT OF THE INTERIOR

Bureau of Land Management

[CO-120-1430-EU]

Notice of Realty Action: Proposed Modified Competitive Sale and Competitive Sale of Public Lands, Grand County, Colorado

AGENCY: Bureau of Land Management, Interior.

ACTION: Notice of realty action.

SUMMARY: The Bureau of Land Management (BLM) hereby provides notice that it will offer five parcels of public lands located in Grand County, Colorado, for sale at not less than their respective appraised fair market values. The Kremmling Field Manager has determined that because Parcels 1 and 5 have no legal access via any public road and are surrounded by private lands, they will be offered for sale only to the current adjoining landowners under modified competitive sale procedures. Parcels 2, 3, and 4, which have legal access via public roads, will be sold individually under competitive sale procedures open to any person or entity qualified to bid. Sales of all parcels will be by sealed bid only.

DATES: Comments regarding the proposed sales must be in writing and received by BLM not later than October 3, 2005.

Sealed bids must be received by BLM not later than 4:30 p.m. MDT, October 17, 2005.

ADDRESSES: Address all written comments regarding the proposed sales to Field Manager, Kremmling Field Office, 2103 E. Park Ave., P.O. Box 68, Kremmling, Colorado 80459. Comments received in electronic form such as e-mail or facsimile will not be considered.

Address all sealed bids, marked as specified below, to the Kremmling Field Office at the address above.

FOR FURTHER INFORMATION CONTACT: Susan Cassel, Realty Specialist, at (970) 724-3002.

SUPPLEMENTARY INFORMATION: In accordance with the provisions of 43 CFR parts 2710 and 2720, the following described lands in Grand County, Colorado, are proposed to be sold pursuant to authority provided in secs. 203 and 209 of the Federal Land Policy and Management Act of 1976 (FLPMA), as amended (43 U.S.C. 1713, 1719). The parcels to be sold are identified as suitable for disposal in the Kremmling Resource Area Management Plan (1984). Proceeds from sale of these public lands will be deposited in the Federal Land Disposal Account under sec. 206 of the Federal Land Transaction Facilitation Act (43 U.S.C. 2305).

Publication of this notice in the Federal Register shall segregate the lands described below from appropriation under the public land laws, including the mining laws. The segregative effect of this notice shall terminate upon issuance of patent or upon expiration 270 days from the date of publication in the Federal Register, whichever occurs first.

Modified Noncompetitive Sale

Parcel 1 (COC-63715)

Sixth Principal Meridian, Colorado

T. 1 N., R. 76 W.

sec. 26, lot 6.

The area described contains 41.26 acres. The appraised market value for Parcel 1 is $268,000. This parcel cannot be legally accessed by any public road. It is surrounded by private property and isolated from other federal lands. There are no encumbrances of record.

Parcel 5 (COC-68234)

Sixth Principal Meridian, Colorado

T. 4 N. R. 76 W.,

sec. 24, lot 8.

The area described contains 3.20 acres. The appraised market value for Parcel 5 is $12,000. This lot is isolated and has no legal access. There are no encumbrances of record.

Offers to purchase either parcel will be made by sealed bid only. All bids must be received at the BLM Kremmling Field Office, 2103 E. Park Ave., P.O. Box 68, Kremmling, Colorado 80459, not later than 4:30 p.m. MDT, October 17, 2005.

Sealed bids for Parcels 1 and 5 will be opened to determine the high bid at 10 a.m. MDT, October 18, 2005, at the BLM Kremmling Field Office.

The outside of each bid envelope must be clearly marked on the front lower left-hand corner with “SEALED BID,” Parcel Number, and bid opening date. Bids must be for not less than the appraised market value for the parcel. Each sealed bid shall be accompanied by a certified check, postal money order, bank draft, or cashier's check made payable in U.S. currency to “DOI-Bureau of Land Management” for an amount not less than 30 percent of the total amount of the bid. Personal checks will not be accepted.

The bid envelope also must contain a signed statement giving the total amount bid for the Parcel and the bidder's name, mailing address, and phone number. As provided in the regulations at 43 CFR 2711.3-2(a)(1)(ii), bidders for Parcels 1 and 5 shall be designated by the BLM and limited to adjoining landowners. Bids for Parcels 1 and 5 submitted by persons or entities other than the designated bidders will be rejected. If BLM receives two or more valid high bids offering an identical amount for a parcel, BLM will notify the apparent high bidders of further procedures to determine the highest qualifying bid.

Competitive Sale

Parcel 2 (COC-67316)

Sixth Principal Meridian, Colorado

T. 1 N., R. 76 W.,

sec. 32, E½NW¼.

The area described contains 80 acres. The appraised market value for Parcel 2 is $480,000. U.S. Highway 40 divides the parcel and provides legal public access. Encumbrances of record include rights-of-way for U.S. Highway 40 (Colorado Department of Transportation), two powerlines (Mountain Parks Electric Association), and one buried telephone line (Qwest Corporation).

Parcel 3 (COC-67317)

Sixth Principal Meridian, Colorado

T. 3 N., R. 76 W.,

sec. 22, lot 10.

The area described contains 2.65 acres. The appraised market value for Parcel 3 is $67,500. The parcel is surrounded by private lands. Grand County Road No. 451, the only encumbrance of record, divides the parcel and provides legal public access.

Parcel 4 (COC-67318)

T. 3 N., R. 76 W.,

sec. 22, lot 16.

The area described contains 2.65 acres. The appraised market value for Parcel 4 is $67,500. The parcel is surrounded by private lands. Grand County Road No. 4, the only encumbrance of record, divides the parcel and provides legal public access.

Offers to purchase Parcels 2, 3, or 4 will be made by sealed bid only. All bids must be received at the BLM Kremmling Field Office, 2103 E. Park Ave., P.O. Box 68, Kremmling, Colorado 80459, not later than 4:30 p.m. MDT, October 17, 2005.

Sealed bids for Parcels 2, 3, and 4 will be opened to determine the high bidder at 10 a.m. MDT, October 18, 2005, at the BLM Kremmling Field Office.

The outside of each bid envelope must be clearly marked on the front lower left-hand corner with “SEALED BID,” Parcel Number, and bid opening date. Bids must be for not less than the appraised market value for the parcel. Each sealed bid shall be accompanied by a certified check, postal money order, bank draft, or cashier's check made payable in U.S. currency to “DOI-Bureau of Land Management” for an amount not less than 30 percent of the total amount of the bid. Personal checks will not be accepted.

The bid envelope also must contain a signed statement giving the total amount bid for the Parcel and the bidder's name, mailing address, and phone number. Certification of bidder's qualifications must accompany the bid deposit. Evidence of authorization to bid for a corporation or other entity must be included. If BLM receives two or more valid high bids offering an identical amount for a parcel, BLM will notify the apparent high bidders of further procedures to determine the highest qualifying bid.

Additional Terms and Conditions of Sale

Successful bidders will be allowed 90 days from the date of sale to submit the remainder of the full bid price. Failure to timely submit full payment for a parcel shall result in forfeiture of the bid deposit to the BLM, and the parcel will be offered to the second highest qualifying bidder at their original bid. If there are no other acceptable bids, the parcel may continue to be offered by sealed bid on the first Friday of each month at not less than the minimum bid until the offer is canceled.

By law, public lands may be conveyed only to (1) citizens of the United States who are 18 years old or older, (2) a corporation subject to the laws of any State or of the United States, (3) an entity including, but not limited to, associations or partnerships capable of acquiring and owning real property, or interests therein, under the laws of the State of Colorado, or (4) a State, State instrumentality, or political subdivision authorized to hold real property.

The following reservations, rights, and conditions will be included in the patent that may be issued for the above parcels of federal land:

1. A reservation to the United States for a right-of-way for ditches and canals constructed by the authority of the United States. Act of August 30, 1890 (43 U.S.C. 945).

2. Parcels 2, 3, and 4 will be subject to rights-of-way for valid existing rights listed above.

No warranty of any kind, express or implied, is given by the United States as to the title, physical condition, or potential uses of the parcels proposed for sale.

The federal mineral interests underlying these parcels have minimal mineral values and will be conveyed with each parcel sold. A sealed bid for the above described parcels constitutes an application for conveyance of the mineral interest for that parcel. In addition to the full purchase price, a successful bidder must pay a separate nonrefundable filing fee of $50 for the mineral interests to be conveyed simultaneously with the sale of the land.

Public Comments

Detailed information concerning the proposed land sales, including reservations, sale procedures, appraisals, planning and environmental documents, and mineral reports, is available for review at the Kremmling Field Office, 2103 E. Park Ave., Kremmling, Colorado. Normal business hours are 7:45 a.m. to 4:30 p.m. MDT, Monday through Friday, except Federal holidays.

The general public and interested parties may submit written comments regarding the proposed sales to the Field Manager, Kremmling Field Office, not later than 45 days after publication of this Notice in the Federal Register. Comments received during this process, including respondent's name, address, and other contact information, will be available for public review. Individual respondents may request confidentiality. If you wish to request that BLM consider withholding your name, address, and other contact information (phone number, e-mail address, or fax number, etc.) from public review or disclosure under the Freedom of Information Act, you must state this prominently at the beginning of your comment. The BLM will honor requests for confidentiality on a case-by-case basis to the extent allowed by law. The BLM will make available for public review, in their entirety, all comments submitted by businesses or organizations, including comments by individuals in their capacity as an official or representative of a business or organization.

Any adverse comments will be reviewed by the BLM State Director, Colorado, who may sustain, vacate, or modify this realty action in whole or in part. In the absence of any adverse comments, this realty action will become the final determination of the Department of the Interior.

John F. Ruhs,
Field Manager, Kremmling Field Office.

[FR Doc. 05-16316 Filed 8-16-05; 8:45 am]

BILLING CODE 4130-JB-U